NUCLEAR REGULATORY COMMISSION

[Docket No. 50-285]

Omaha Public Power District, Fort Calhoun Station, Unit No. 1; Notice of Withdrawal of Application for Amendment to Facility Operating License

The U.S. Nuclear Regulatory Commission (the Commission) has granted the request of Omaha Public Power District (the licensee) to withdraw its February 5, 2008, application for proposed amendment to Facility Operating License No. DPR-40 for the Fort Calhoun Station, Unit No. 1, located in Washington County, Nebraska.

The proposed amendment would have revised the Technical Specifications (TS) to eliminate the second condition of Limiting Conditions for Operation from (LCO) 2.5(1)A. The current LCO 2.5(1)A. states, “With one steam supply to the turbine driven AFW [auxiliary feedwater] pump inoperable, restore the steam supply to OPERABLE status within 7 days and within 8 days from discovery of the failure to meet the LCO.” The amendment would have eliminated the second condition that states, “and within 8 days from discovery of failure to meet the LCO.” The licensee stated that the proposed change would have been consistent with the objective of Technical Specification Task Force (TSTF) Traveler TSTF-439, Revision 2, “Eliminate Second Completion Times Limiting Time From Discovery of Failure to Meet an LCO.”

The Commission had previously issued a Notice of Consideration of Issuance of Amendment published in the Federal Register on June 3, 2008 (73 FR 31722). However, by letter dated November 10, 2008, the licensee withdrew the proposed change.

For further details with respect to this action, see the application for amendment dated February 5, 2008, and the licensee's letter dated November 10, 2008, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the Internet at the NRC Web site, http://www.nrc.gov/reading-rm.html. Persons who do not have access to ADAMS or who encounter problems in accessing the documents located in ADAMS should contact the NRC PDR Reference staff by telephone at 1-800-397-4209, or 301-415-4737 or by e-mail to pdr.resource@nrc.gov.

Dated at Rockville, Maryland, this 26th day of November 2008.
For the Nuclear Regulatory Commission.
Alan B. Wang,
Project Manager, Plant Licensing Branch IV, Division of Operating Reactor Licensing, Office of Nuclear Reactor Regulation.

[FR Doc. E8-28846 Filed 12-4-08; 8:45 am]

BILLING CODE 7590-01-P